DEPARTMENT OF LABOR

Employment and Training Administration

ETA-9000 Report on Internal Fraud Activities: Comment Request

ACTION: Notice; request for comments.

SUMMARY: The Department of Labor, as a part of its continuing effort to reduce paperwork and respondent burden, conducts a preclearence consultation program to provide the general public and federal agencies with an opportunity to comment on proposed and/or continuing collections of information in accordance with a provision of the Paperwork Reduction Act of 1995 at 44 U.S.C. 3506 (c)(2)(A). This program helps to ensure that requested data can be provided in the desired format. Reporting burdens (time and financial resources) are minimized, collection instruments are clearly understood, and the impact of collection requirements on respondents can be properly assessed. Currently, the Employment and Training Administration is solicitating comments concerning the proposed extension for collection information for the ETA-9000 Report on Internal Fraud Activities. A copy of the proposed information collection request can be obtained by contacting the office listed below in the ADDRESSES section of this notice.

DATES: Written comments must be submitted to the office listed in the ADDRESSES section below October 26, 2001.

ADDRESSES: Harry B. Minor, Office of Workforce Security, Employment and Training Administration, U.S. Department of Labor, Room S4516, 200 Constitution Avenue, NW., Washington, DC 20210, telephone number, (202) 693-3216 (this is not a toll-free number).

SUPPLEMENTARY INFORMATION:

I. Background

The ETA-9000 is the only data source available on instances of internal fraud activities within the Unemployment Insurance (UI) program and on the results of safeguards that have been implemented to deter and detect instances of internal fraud. The report categorizes the major areas susceptible to internal (employee) fraud and provides actual and “estimated” (predictability or cost avoidance measures) workload. The information from this report has been used and will be used to review Internal Security (IS) operations and obtain information on composite shifting patterns of nationwide activity, and effectiveness in the area of internal fraud identification and prevention. The Employment and Training Administration has used this report to assess the overall adequacy of IS procedures in State Employment Security Agency (SESA) UI program administration.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Actions

Continued collection of the ETA-9000 data will provide for a comprehensive evaluation of the UI IS program. The data is collected annually, and an analysis of the data received is formulated into a report summarizing the internal fraud cases uncovered by the 53 SESAs.

Type of Review: Extension.

Agency: Employment and Training Administration.

Title: Report on Internal Fraud Activities.

OMB Number: 1205-0187.

Agency Number: ETA 9000.

Total Respondents: 53.

Average Time per Response: 3 hours.

Estimated Total Burden Hours: 159 hours.

Total Burden Cost (capital/startup): 0.

Total Burden Cost (operating/maintaining): 0.

Comments received in response to this notice will be submitted and/or included in the request for Office of Management and Budget approval of the information collection request; they will also become a matter of public record.

Dated: August 21, 2001.
Grace A. Kilbane,
Administrator, Office of Workforce Security.

[FR Doc. 01-21575 Filed 8-24-01; 8:45 am]

BILLING CODE 4510-30-P